DEPARTMENT OF COMMERCE

Submission for OMB Review; Comment Request

DOC has submitted to the Office of Management and Budget (OMB) for clearance the following proposal for collection of information under the provision of the Paperwork Reduction Act of 1995, Public Law 104-13.

Bureau: International Trade Administration.

Title: Export Assistance Center Internet Web Site Form.

Agency Form Number: ITA-4148P.

OMB Number: 0625-0237.

Type of Request: Regular Submission.

Burden: 700 hours.

Number of Respondents: 7,000.

Avg. Hours Per Response: 5 minutes.

Needs and Uses: U.S. Export Assistance Centers, which are a combined effort of the U.S. Department of Commerce, Export-Import Bank, and Small Business Administration provides a comprehensive array of export counseling and trade finance services to small and medium-sized U.S. exporting firms. It proposes the extension of the Office of Management and Budget's authorization for this information collection form to continue the usefulness of its interactive website. In addition, this generic form will be used in its entirety or with minor modifications by all U.S. Export Assistance Centers and the Office of Domestic Operations. The form will ask U.S. exporting firm respondents to provide general background information and identify which service(s) they are interested in.

Affected Public: Business or other for-profit.

Frequency: On Occasion.

Respondent's Obligation: Required to obtain or retain benefit.

Dates: Written comments must be submitted on or before October 31, 2005.

OMB Desk Officer: David Rostker, (202) 395-3897.

Copies of the above information collection can be obtained by calling or writing Diana Hynek, Departmental Paperwork Clearance Officer, (202) 482-0266, Department of Commerce, Room 6625, 14th and Constitution Avenue, NW., Washington, DC 20230 or via the Internet dHynek@doc.gov.

Written comments and recommendations for the proposed information collection should be sent to David_Rostker@omb.eop.gov or fax (202) 395-7285 within 30 days of the publication of this notice in the Federal Register.

Dated: December 22, 2005.
Madeleine Clayton,
Management Analyst, Office of the Chief Information Officer.

[FR Doc. E5-7970 Filed 12-27-05; 8:45 am]

BILLING CODE 3510-FP-P